DEPARTMENT OF HOMELAND SECURITY

U.S. Citizenship and Immigration Services

[CIS No. 2433-07; DHS Docket No. USCIS-2007-0059]

RIN 1615-ZA63

Filing Location for H-2A Petitions

AGENCY: U.S. Citizenship and Immigration Services, DHS.

ACTION: Notice.

SUMMARY: This Notice announces that employers petitioning for temporary or seasonal agricultural workers coming to the United States under the H-2A nonimmigrant classification must file their petitions at U.S. Citizenship and Immigration Service's California Service Center. Receiving all H-2A petitions at the designated California Service Center will enable U.S. Citizenship and Immigration Services to reduce overall petition processing times and better monitor the adjudication of H-2A petitions.

DATES: This Notice is effective December 10, 2007.

FOR FURTHER INFORMATION CONTACT: Hiroko Witherow, Service Center Operations, U.S. Citizenship and Immigration Services, Department of Homeland Security, 111 Massachusetts Avenue, NW., Suite 3000, Washington, DC 20529, telephone (202) 272-8410.

SUPPLEMENTARY INFORMATION:

I. Background

The H-2A nonimmigrant classification applies to alien workers coming to the United States temporarily to perform agricultural labor or services of a temporary or seasonal nature. Immigration and Nationality Act (INA) sec. 101(a)(15)(H)(ii)(a), 8 U.S.C. 1101(a)(15)(H)(ii)(a); see 8 CFR 214.1(a)(2) (H-2A classification designation). As part of the process to obtain H-2A nonimmigrant status, a U.S. employer must file Form I-129, “Petition for Nonimmigrant Worker,” on the workers” behalf. On October 17, 2007, U.S. Citizenship and Immigration Services (USCIS) announced that it was centralizing the processing of Forms I-129 filed under the H-2A nonimmigrant classification (hereinafter “H-2A petitions”) to its California Service Center (CSC). See http://www.uscis.gov/files/pressrelease/H2AUpdate17Oct07.pdf. USCIS also issued Form I-129 Supplemental Filing Instructions for filing H-2A petitions at the CSC.

The October 17 announcement encouraged employers to begin filing H-2A petitions at the CSC address. Previously, employers were required to file H-2A petitions either with USCIS' California Service Center (CSC) or Vermont Service Center (VSC), depending on the location of the temporary employment. See Form I-129 Instructions (Rev. 07/30/07), at pages 13 through 16. The change in filing location of H-2A petitions to the CSC was prompted by USCIS' establishment of a special unit at the California Service Center dedicated to process all H-2A petitions. USCIS believes that receiving all H-2A petitions at the designated CSC address will help speed the fee-receipt, data-entry, and adjudication processes. In so doing, USCIS will be able to reduce overall petition processing times and better monitor the adjudication of H-2A petitions.

USCIS has been forwarding H-2A petitions to the CSC for processing if a different service center received the petitions. However, after December 10, 2007, USCIS will no longer continue to forward H-2A petitions filed at another service center. Instead, these petitions and accompanying fees will be returned to the petitioner for proper filing.

II. H-2A Filing Address at the CSC

Beginning on December 10, 2007, employers must file H-2A petitions at the following address in accordance with the Supplemental Filing Instructions to Form I-129:

For Direct Mail: U. S. Citizenship and Immigration Services, California Service Center, ATTN: H-2A Processing Unit, P.O. Box 10140, Laguna Niguel, CA 92607-1040.

For non-United States Postal Service (USPS) deliveries (e.g. private couriers): U.S. Citizenship and Immigration Services, California Service Center, ATTN: H-2A Processing Unit, 24000 Avila Road, Room 2312, Laguna Niguel, CA 92677.

An H-2A petition also can be electronically filed. Instructions for electronically filing Form I-129 for the H-2A classification is available on USCIS' Web site at www.uscis.gov.

III. Paperwork Reduction Act

Under the Paperwork Reduction Act of 1995, Public Law 104-13, 109 Stat. 163 (1995), all Departments are required to submit to the Office of Management and Budget (OMB), for review and approval, any reporting or recordkeeping requirements. Accordingly, the supplemental instructions for the Form I-129 were submitted and approved by OMB. The OMB Control Number for this information collection is 1615-0009.

Dated: November 5, 2007.
Emilio T. Gonzalez,
Director, U.S. Citizenship and Immigration Services.

[FR Doc. E7-21984 Filed 11-8-07; 8:45 am]

BILLING CODE 4410-10-P